INTERNATIONAL TRADE COMMISSION

[Investigation No. 337-TA-752]

Certain Gaming and Entertainment Consoles, Related Software, and Components Thereof; Notice of Commission Determination To Review a Final Initial Determination Finding a Violation of Section 337; Remand of the Investigation to the Administrative Law Judge

AGENCY: U.S. International Trade Commission.

ACTION: Correction of notice.

SUMMARY: The Commission's notice published in the Federal Register on July 6, 2012 (77 FR 40082) contained an error that incorrectly identified “337-TA-745” as the investigation number for the Commission's determination to review a final initial determination finding a violation of section 337 and remand of the investigation to the administrative law judge. The correct investigation number is 337-TA-752.

By order of the Commission.
Issued: July 18, 2012.
Lisa R. Barton,
Acting Secretary to the Commission.

[FR Doc. 2012-17887 Filed 7-20-12; 8:45 am]

BILLING CODE 7020-02-P